DEPARTMENT OF TRANSPORTATION

Office of the Secretary

Notice of Applications for Certificates of Public Convenience and Necessity and Foreign Air Carrier Permits Filed Under Subpart B (formerly Subpart Q) During the Week Ending September 23, 2005

The following Applications for Certificates of Public Convenience and Necessity and Foreign Air Carrier Permits were filed under Subpart B (formerly Subpart Q) of the Department of Transportation's Procedural Regulations (see 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-22552.

Date Filed: September 22, 2005.

Due Date for Answers, Conforming Applications, or Motion to Modify Scope: October 13, 2005.

Description: Application of ABX Air, Inc. requesting issuance of a certificate of public convenience and necessity to engage in scheduled foreign air transportation of property and mail between any point or points in the United States and any point in the countries listed in Appendix A to the application.

Renee V. Wright,
Program Manager, Docket Operations, Federal Register Liaison.

[FR Doc. 05-20400 Filed 10-11-05; 8:45 am]

BILLING CODE 4910-62-P